DEPARTMENT OF LABOR

Mine Safety and Health Administration

Petition for Modification

AGENCY: Mine Safety and Health Administration, Labor.

ACTION: Notice; correction.

SUMMARY: This notice amends a petition for modification published in the Federal Register on May 23, 2012, for the Mountain Coal Company, LLC, P.O. Box 591, 5174 Highway 133, Somerset, Colorado 81434.

FOR FURTHER INFORMATION CONTACT: George F. Triebsch, 202-693-9440.

Correction

This notice corrects the mandatory safety standard cited in the notice. The safety standard referenced in the May 23, 2012 Federal Register notice on page 30556 in the 2nd column, Docket Number M-2012-075-C, was listed as 30 CFR 75.500(d) (Permissible electric equipment). The correct mandatory safety standard is 30 CFR 75.503 (Permissible electric face equipment; maintenance).

Dated: December 4, 2012.
George F. Triebsch,
Director, Office of Standards, Regulations and Variances.

[FR Doc. 2012-29585 Filed 12-6-12; 8:45 am]

BILLING CODE 4510-43-P